ENVIRONMENTAL PROTECTION AGENCY

[FRL-9976-93-OW]

Re-Establishment of the Environmental Financial Advisory Board

AGENCY: Environmental Protection Agency (EPA).

ACTION: Notice.

SUMMARY: In accordance with the Federal Advisory Committee Act, notice is hereby given that the U.S. Environmental Protection Agency (EPA) intends to re-establish the Environmental Financial Advisory Board (EFAB) for a two-year period due to an administrative delay in filing the committee's renewal charter. EPA has determined that the EFAB is necessary and in the public interest in connection with the performance of duties imposed on the agency by law. The purpose of EFAB is to provide advice and recommendations to the EPA Administrator on issues associated with environmental financing.

FOR FURTHER INFORMATION CONTACT: Inquiries may be directed to Leo Gueriguian, Associate Director, Water Infrastructure Division, U.S. EPA, William Jefferson Clinton Federal Building, 1200 Pennsylvania Ave. NW, Washington, DC 20460 (Mail Code: 4201T), Telephone (202) 564-0388, or gueriguian.leo@epa.gov.

Dated: April 10, 2018.
Andrew D. Sawyers,
Director, Office of Wastewater Management, Office of Water.

[FR Doc. 2018-08136 Filed 4-17-18; 8:45 am]

BILLING CODE 6560-50-P